DEPARTMENT OF ENERGY

Federal Energy Regulatory Commission

[Docket No. CP02-420-000]

Red Lake Gas Storage, L.P.; Notice of Public Comment Meeting for the Proposed Red Lake Gas Storage Project and Request for Comments on Environmental Issues

March 12, 2003.

The staff of the Federal Energy Regulatory Commission (Commission), in cooperation with the staff of the Arizona State Office of the U.S. Department of the Interior, Bureau of Land Management (BLM), is issuing this notice to announce the date and location of a public scoping meeting on the proposed Red Lake Gas Storage Project. The Commission staff will be preparing an environmental impact statement (EIS) for Red Lake Gas Storage, L.P.”s project in Mohave County, Arizona. The planned facilities would consist of two solution-mined underground salt caverns, about 52 miles of various diameter pipeline, a 25,000-horsepower (hp) compressor station, a 9,000-hp compressor station, four water withdrawal wells, four brine disposal wells, and appurtenant facilities. The EIS will be used by the Commission in its decision-making process to determine whether the project is in the public convenience and necessity. You are invited to attend the public meeting to enter into the Commission's record any comments you might have. The staff is particularly interested in receiving comments on the alternative pipeline routes identified in its February 28, 2003 notice. Comments received at the scoping meeting will help us to determine the issues to be evaluated in the EIS. The date, time, and location are shown below:

Date and time | Location | Information contact
April 8, 2003, 7-10 pm | Kingman High School, North Campus, Cafeteriam 4182 North Banks Street, Kingman, AZ 86401 | Janna Paronto, BLM, (928) 692-4449.

Magalie R. Salas,
Secretary.

[FR Doc. 03-6522 Filed 3-18-03; 8:45 am]

BILLING CODE 6717-01-P